DEPARTMENT OF ENERGY

Federal Energy Regulatory Commission

Combined Notice of Filings #1

Take notice that the Commission received the following electric rate filings:

Docket Numbers: ER10-2290-005.

Applicants: Avista Corporation.

Description: Third Amendment to June 30, 2016 Triennial Market Power Update for the Northwest Region of Avista Corporation.

Filed Date: 6/7/17.

Accession Number: 20170607-5177.

Comments Due: 5 p.m. ET 6/28/17.

Docket Numbers: ER16-2703-003.

Applicants: Deerfield Wind Energy, LLC.

Description: Notice of Non-Material Change in Status of Deerfield Wind Energy, LLC.

Filed Date: 6/7/17.

Accession Number: 20170607-5175.

Comments Due: 5 p.m. ET 6/28/17.

Docket Numbers: ER17-1515-001.

Applicants: Midcontinent Independent System Operator, Inc.

Description: Tariff Amendment: 2017-06-07_Amendment to filing to revise MRES Att O inc. RTO Adder Request to be effective 7/1/2017.

Filed Date: 6/7/17.

Accession Number: 20170607-5154.

Comments Due: 5 p.m. ET 6/28/17.

Docket Numbers: ER17-1771-000.

Applicants: Duke Energy Progress, LLC.

Description: § 205(d) Rate Filing: DEP-Winterville RS No. 178 Revised PPA to be effective 7/1/2017.

Filed Date: 6/7/17.

Accession Number: 20170607-5123.

Comments Due: 5 p.m. ET 6/28/17.

Docket Numbers: ER17-1772-000.

Applicants: Mid-Atlantic Interstate Transmission, LLC, PJM Interconnection, L.L.C.

Description: § 205(d) Rate Filing: MAIT submits Revised Operating and Interconnection Agreement SA No. 4578 to be effective 6/1/2017.

Filed Date: 6/8/17.

Accession Number: 20170608-5040.

Comments Due: 5 p.m. ET 6/29/17.

Docket Numbers: ER17-1773-000.

Applicants: American Transmission Systems, Incorporated, PJM Interconnection, L.L.C.

Description: § 205(d) Rate Filing: ATSI submits revised Service Agreement Nos. 3992 and 3993 to be effective 7/1/2017.

Filed Date: 6/8/17.

Accession Number: 20170608-5045.

Comments Due: 5 p.m. ET 6/29/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2017.
Kimberly D. Bose,
Secretary.

[FR Doc. 2017-12680 Filed 6-16-17; 8:45 am]

BILLING CODE 6717-01-P